DEPARTMENT OF JUSTICE

Antitrust Division

Notice Pursuant to The National Cooperative Research and Production Act Of 1993—National Spectrum Consortium

Notice is hereby given that, on July 18, 2023, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Distributed Spectrum, Inc., New York, NY; Vorbeck Materials Corp., Jessup, MD; and Metron, Inc., Reston, VA, have been added as parties to this venture.

Also, PrioriTech, Inc., State College, PA; Kestrel Corp., Albuquerque, NM; ICF Incorporated, LLC, Fairfax, VA; Metric Systems Corp., Vista, CA; RWC, LLC, Annapolis, MD; Arizona State University, Tempe, AZ; Haigh-Farr, Inc., Bedford, NH; Ideal Innovations Incorporated, Arlington, VA; Shenandoah Research and Technology, LLC, Mount Jackson, VA; Constellation Data Systems, Inc., Cincinnati, OH; Disney-ABC TV Group, New York, NY; Quasonix, Inc., West Chester, OH; Cognitive Radio Technologies, LLC, Lynchburg, VA; Kerberos International, Inc., Temple, TX; Planned Systems International, Inc., Columbia, MD; TriaSys Technologies Corp., North Billerica, MA; VUUM LLC, Houston, TX; SI2 Technologies, Inc., North Billerica, MA; Trident Technologies, LLC, Huntsville, AL; Unmanned Experts, Inc., Denver, CO; Monterey-Nouveau & Associates, LLC, Dayton, OH; Hercules Research LLC, Chantilly, VA; ANRA Technologies, LLC, Stone Ridge, VA; Black River Systems Company, Inc., Utica, NY; Colorado School of Mines, Golden, CO; Darkblade Systems Corp., Stafford, VA; Signautics Engineering Services, LLC, Dunedin, FL; JRC Integrated Systems, Inc., Washington, DC; Jupiterra LLC, Washington, DC; DRS Sustainment Systems, Inc., St. Louis, MO; DRS Signal Solutions, Inc., Germantown, MD; nLight Solutions LLC, Charlotte, NC; Rensselaer Polytechnic Institute, Troy, NY; Sage Management Enterprise, LLC, Columbia, MD; Under the Grid, LLC, Pacific Grove, CA; SpectrumFi, Sunnyvale, CA; Glover 38th St Holdings LLC, Smithfield, VA; The Research Armadillo, Flower Mound, TX; Welkin Sciences, LLC, Colorado Springs, CO; Domo Tactical Communications, Pinellas Park, FL; NEBENS, LLC, Deer Park, IL; Cloud Front Group, Inc., Reston, VA; University of Michigan, Ann Arbor, MI; University of Dayton, Dayton, OH; The Ohio State University, Columbus, OH; Charles River Analytics, Inc., Cambridge, MA; University of Nevada, Reno, Reno, NV; Fibertek, Inc., Herndon, VA; EMC Corp., McLean, VA; G5 Scientific, LLC, Burlington, MA; Interoptek, Inc, N. Charleston, SC; Kranze Technology Solutions, Inc., Prospect Heights, IL; COMINT Consulting LLC, Golden, CO; OpenJAUS, LLC, Lake Mary, FL; Warrior Support Solutions, LLC, Hollis, NH; Foundry Inc., Millersville, MD; Vanu Inc., Lexington, MA; Avcom of Virginia, Inc., North Chesterfield, VA; Exelis, Inc., Clifton, NJ; Florida International University, Miami, FL; Northwestern University, Evanston, IL; The Research Foundation For The State University Of New York, Buffalo, NY; IQ-ANALOG, San Diego, CA; Drexel University, Philadelphia, PA; Long Wave, Inc., Oklahoma City, OK; NuWaves Engineering, Middletown, OH; Battelle Energy Alliance, LLC, Idaho Falls, ID; Giga-tronics, Incorporated, Dublin, CA; Global Ground Systems, LLC, Purcellville, VA; MIT Lincoln Laboratory, Lexington, MA; Worcester Polytechnic Institute, Worcester, MA; AX Enterprize, LLC, Yorkville, NY; Covariant Solutions, LLC, Gaithersburg, MD; DynamicSignals LLC, Lockport, IL; Guidestar Optical Systems, Inc, Longmont, CO; KAB Laboratories, Inc., San Diego, CA; Perceptix LLC, Washington, DC; San Diego State University Research Foundation, San Diego, CA; SCAN LLC, St. Louis, MO; Tektronix, Inc., Beaverton, OR; University of Alabama, The, Tuscaloosa, AL; University of Southern California Information Sciences Institute, Marina Del Ray, CA, Waveform Logic, Inc., Winter Park, FL; xG Technology, Sunrise, FL; Ziva Corp., San Diego, CA; Systems & Processes Engineering Corp. (SPEC), Austin, TX; United Technologies Research Center (UTRC), East Hartford, CT; Bascom Hunter Technologies, Inc., Baton Rouge, LA; Avionics Test & Analysis Corp., Niceville, FL; Agile Communications, Inc., El Segundo, CA; Stryke Industries, LLC, Fort Wayne, IN; Red Balloon Security, Inc., New York, NY; Telspan Data, LLC, Concord, CA; Expedition Technology, Inc., Dulles, VA; Applied Engineering Concepts, Inc., Eldersburg, MD; Armaments Research Company, Inc., Bethesda, MD; C-3 Comm Systems, LLC, Arlington, VA; C6I Services Corp., Chesterfield, NJ; Comtech EF Data, Tempe, AZ; DataSoft Corp., Tempe, AZ; D-TA Systems Corp., Centennial, CO; Fregata Systems LLC, St. Louis, MO; General Dynamics SATCOM Technologies, Inc., State College, PA; Genesys Technologies, Ltd., Langhorne, PA; Infinite Dimensions Integration, Inc., West Plains, MO; Innovation Finance Group, Bethesda, MD; Quantum Dimension, Inc., Huntington Beach, CA; SAZE Technologies, LLC, Silver Spring, MD; SCI Technology, Inc., Huntsville, AL; Solvaren, LLC, Wall, NJ; The University of Chicago, Chicago, IL; Ciyis LLC, Atlanta, GA; X-COM Systems LLC, Reston, VA; Aspen Consulting Group, Manasquan, NJ; AVANTech Inc., Columbia, SC; Institute for Building Technology and Safety (IBTS), Ashburn, VA; Sentrana, Arlington, VA; Phase Sensitive Innovations, Inc., Newark, DE; Technology Unlimited Group, San Diego, CA; University of Arizona—Electrical and Computer Engineering, Tucson, AZ; IJK Controls LLC, Dallas, TX; IMSAR LLC, Springville, UT; Pareto Frontier, LLC, Westford, MA; Bear Systems, Boulder, CO; Vectrona, LLC, Virginia Beach, VA; Indiana Tool & Mfg. Co., Inc. DBA ITAMCO, Plymouth, IN; Ball Aerospace & Technologies Corp., Fairborn, OH; Beatty and Company Computing, Inc., Southlake, TX; Sprint Solutions, Inc., Overland Park, KS; GreenSight Agronomics, Inc., Boston, MA; MixComm, Inc., Chatham, NJ; NTS Technical Systems, Calabases, CA; Ultra Communications, Inc., Vista, CA; MW Ventures LLC, DBA Social Mobile, Miami, FL; Paul Christoforou DBA Lociva, Haymarket, VA; Rodriguez, Jonathan, La Habra, CA; Garou Inc., New York, NY; CIPHIR-TM, LLC, Albany, OR; Corner Alliance, Inc., Washington, DC; IAI, LLC, Chantilly, VA; InCadence Strategic Solutions, Manassas, VA; NetApp, Inc., Sunnyvale, CA; Peregrine Technical Solutions, LLC, Yorktown, VA; W5 Technologies, Inc., Scottsdale, AZ; AuresTech Inc., Tewksburg, MA; Electronic Design and Development Corp. (ED2), Tucson, AZ; HawkEye 360, Inc., Herndon, VA; MegaWave Corp., Worcester, MA; NorthWest Research Associates, Inc., Redmond, WA; Pi Radio Inc., Brooklyn, NY; QuayChain, Inc., San Pedro, CA; Sentar, Inc., Huntsville, AL; TrustComm, Inc., Stafford, VA; B23, LLC, Tysons, VA; SSC Innovations, Vienna, VA; Signal Hound, Inc., La Center, WA; IFS North America, Inc., Chicago, IL; AVT Simulation, Orlando, FL; Trilogy Networks, Boulder, CO; Comsearch, Ashburn, VA; AirV Labs, Inc., Champaign, IL; AnTrust, Columbia, MD, Aegis Systems, Inc., New York, NY; Concurrent Technologies Corp., Johnstown, PA; Connected Devices LLC, Chapel Hill, NC; Knowledge Management, Inc., Tyngsboro, MA; NxGen Partners Manager LLC, Dallas, TX; Spectral Labs Incorporated, San Diego, CA; Thinklogical LLC, Milford, CT; University at Buffalo, Amherst, NY; PAE Applied Technologies, Fort Worth, TX; The University of Texas at Dallas, Richardson, TX; ReFirm Labs, Inc., Fulton, MD; Amentum Services, Inc., Germantown, MD; CesiumAstro, Austin, TX; PlusN LLC, Elmsford, NY; MedCognition, Inc., San Antonio, TX; NetObjex, Inc., Santa Ana, CA; Novaa, Ltd., Dublin, OH; SRC, Inc., North Syracuse, NY; University of Illinois, Urbana, IL; Wyle Laboratories, Inc., Huntsville, AL; The Kenjya-Trusant Group LLC, Columbia, MD; Rivada Networks LLC, Colorado Springs, CO; Northern Arizona University, Flagstaff, AZ; Device Solutions, Inc., Hillsborough, NC; Peraton, Inc., Herndon, VA; GenOne Technologies LLC, Cambridge, MA; DataRobot, Inc., Boston, MA; General Radar Corp., Belmont, CA; Gonzaga University, Spokane, WA; Silent Partner International, Inc., Riverview, FL; ORSA Technologies LLC, Sierra Vista, AZ; Pn Automation, Inc., Haltehorpe, MD; Prizm XR, Inc., Cold Spring, NY; Kutta Technologies, Inc., Phoenix, AZ; Trex Enterprises Corp., San Diego, CA; OmniMesh Technologies, Inc., Syracuse, NY; Ewing Engineered Solutions, Allen, TX; DT Professional Services LLC, Canoga Park, CA; MicroStrategy, Tysons, VA; Titan Systems LLC, Lexington Park, MD; SIEGE Technologies, Chantilly, VA; Summation Research, Inc., Melbourne, FL; Waterleaf International LLC, Fort Myers, FL; Taurean General Services, Inc., Boerne, TX; Artesion, Inc., Tacoma, WA; Blue Danube Systems, Inc., Santa Clara, CA; BTAS, Inc., Beavercreek, OH; Cirrus360 LLC, Richardson, TX; CNF Technologies, San Antonio, TX; Conductive Composites Company, Heber City, UT; GATR Technologies, Huntsville, AL; General Dynamics Information Technology, Inc., Falls Church, VA; Granite Telecommunications LLC, Mclean, VA; Hanwha International LLC, Arlington, VA; Innovative Power LLC, Sterling, VA; NetNumber, Inc., Lowell, MA; NVIDIA Corp., Santa Clara, CA; Pacific Antenna Systems LLC, Camarillo, CA; Rafael Systems Global Sustainment LLC, Bethesda, MD; James River Design and Manufacturing LLC, North Chesterfield, VA; L3 Technologies, Inc. Communications Systems—East, Camden, NJ; Lumen Tech, Herndon, VA; Medivis, Inc., New York, NY; Metawave Corp., Carlsbad, CA; Ravenswood Solutions, Fremont, CA; Red Hat Professional Consulting, Inc., Raleigh, NC; Strategic Data Systems, Inc., Keller, TX; Stratom, Inc., Boulder, CO; Synoptic Engineering LLC, Arlington, VA; Tilson Technology Management, Inc., Portland, ME; Two Six Labs LLC, Arlington, VA; UI Labs DBA MxD USA, Chicago, IL; University of Oklahoma, Normon, OK; University of Washington, Seattle, WA; Vision Engineering Solutions, Inc., Merritt Island, FL; Edaptive Computing, Inc., Dayton, OH; Envistacom LLC, Atlanta, GA; L3 Technologies, San Diego, CA; M3 Defense Consulting LLC, Sterling Heights, MI; Mobilestack, Inc., Dublin, CA; Undergrid Networks, Inc., Atlanta, GA; Kopis Mobile LLC, Flowood, MS; Baker Street Scientific, Inc., Marietta, GA; Bridge 12 Technologies, Inc., Framingham, MA; Ascension Engineering Group LLC, Colorado Springs, CO; Ciena Government Solutions, Inc., Hanover, MD; Everactive, Inc., Santa Clara, CA; Zin Solutions, Inc. DBA Axiom Towers, Tulsa, OK; Sertainty Corp., Nashville, TN; Spectrum Center Government Services LLC, McLean, VA; Pinnacle Solutions, Inc., Huntsville, AL; Global Technical Systems, Virginia Beach, VA; RPI Group, Inc., Fredericksburg, VA; Encryptor, Inc., Plano, TX; Applied Technology, Inc., King George, VA; LAINE Technologies, Goose Creek, SC; AlphaPixel LLC, Evergreen, CO; KinetX, Inc., Tempe, AZ; M2 Technology, Inc., San Antonio, TX; Onclave Networks, Inc., McLean, VA; Aqsacom Incorporated, Irving, TX; Capstone Partners, Inc., Lancaster, PA; TurbineOne LLC, San Francisco, CA; Wind Talker Innovations, Inc., Fife, WA; Aurotech LLC, Silver Spring, MD; Micron Technology, Inc., Seattle, WA; Exyn Technologies, Philadelphia, PA; Axellio, Inc., Colorado Springs, CO; Spectrum Bullpen LLC, Palm Bay, FL; Capraro Technologies, Inc., Utica, NY; Coda Octopus Colmek, Murray, UT; Consolidated Resource Imaging LLC, Grand Rapids, MI; Opto-Knowledge Systems, Inc., Torrance, CA; Adsys Controls, Inc., Irvine, CA; Amazon Web Services, Inc., Seattle, WA; Associated Universities, Inc., Washington, DC; BlackHorse Solutions, Inc., Herndon, VA; Broadband Antenna Tracking Systems, Inc., Indianapolis, IN; Carolina Microwave Associates, Inc., Cowpens, SC; CellAntenna Corp., Coral Springs, FL; COMSovereign Holding Corp., Tucson, AZ, Comtech Mobile Datacom Corp., Germantown, MD; Dell Federal Systems L.P., Round Rock, TX; Emerging Technology Ventures, Inc., Alamogordo, NM; Enveil Inc., Fulton, MD; EPIC Scientific, Spring Lake Heights, NJ; Epirus, Inc., Hawthorne, CA; Gigamon, Inc., Santa Clara, CA; Insight Public Sector, Tempe, AZ; JANUS Research Group LLC, Evans, GA; Microsoft Corp., Redmond, WA; Mobile Frontiers LLC, Vienna, VA; NextGen Federal Systems LLC, Morgantown, WV; Northeast Information Discovery LLC, Canastota, NY; Otava, Inc., Moorestown, NJ; Palo Alto Networks Public Sector LLC, Reston, VA; Pennsylvania State University—Applied Research Laboratory, State College, PA; PTC, Boston, MA; Radiall USA, Inc., Tempe, AZ; Ribbon Communications, Plano, VA; Signal Point Systems, Inc., Kennesaw, GA; Spectronn, Holmdel, NJ; Splunk, Inc., San Francisco, CA; Swim.ai, Inc., Campbell, CA; University of Texas at San Antonio, San Antonio, TX; Vitruvian Labs LLC, Havre De Grace, MD; Catholic University of America, Washington, DC; Premier LogiTech LLC, Coppell, TX; Starry, Inc. Boston, MA; and US Ignite, Inc., Washington, DC, have withdrawn as parties to this venture.

No other changes have been made in either the membership or planned activity of the group research project. Membership in this group research project remains open, and NSC intends to file additional written notifications disclosing all changes in membership.

On September 23, 2014, NSC filed its original notification pursuant to section 6(a) of the Act. The Department of Justice published a notice in the Federal Register pursuant to section 6(b) of the Act on November 4, 2014 (79 FR 65424).

The last notification was filed with the Department on April 5, 2023. A notice was published in the Federal Register pursuant to Section 6(b) of the Act on June 12, 2023 (88 FR 38096).

Suzanne Morris,
Deputy Director Civil Enforcement Operations, Antitrust Division.

[FR Doc. 2023-22231 Filed 10-4-23; 8:45 am]

BILLING CODE P